CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of collection requirement on respondents can be properly assessed.

Currently, the Corporation is soliciting comments concerning the AmeriCorps Annual Progress Report designed to collect demographic, performance, and narrative information from federal grantees. These reports will be submitted by grantees that receive a grant from AmeriCorps State and National. Completion of the Progress Report is required as a condition of these awards.

Copies of the information collection request can be obtained by contacting the office listed in the addresses section of this notice.

DATES: Written comments must be submitted to the individual and office listed in the ADDRESSES section by July 19, 2011.

ADDRESSES: You may submit comments, identified by the title of the information collection activity, by any of the following methods:

(1) By mail sent to: Corporation for National and Community Service; Attention Amy Borgstrom, Associate Director for Policy, Room 9515; 1201 New York Avenue, NW., Washington, DC 20525.

(2) By hand delivery or by courier to the Corporation's mailroom at Room 8100 at the mail address given in paragraph (1) above, between 9 a.m. and 4 p.m. Monday through Friday, except Federal holidays.

(3) By fax to: (202) 606-3476, Attention Amy Borgstrom, Associate Director for Policy.

(4) Electronically through the Corporation's e-mail address system: aborgstrom@cns.gov or http://www.regulations.gov. Individuals who use a telecommunications device for the deaf (TTY-TDD) may call 1-800-833-3722 between 8 a.m. and 8 p.m. Eastern Time, Monday through Friday.

FOR FURTHER INFORMATION CONTACT: Amy Borgstrom, (202) 606-6930, or by e-mail at aborgstrom@cns.gov.

SUPPLEMENTARY INFORMATION: The Corporation is particularly interested in comments that:

• Evaluate the questions being asked and data being collected.

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The Annual Progress Report will be completed by grantees of the AmeriCorps State and National program. The purpose of the information collection is to elicit accurate information from CNCS grantees in order to assess impacts and respond to requests for information from stakeholders.

Current Action

The Corporation seeks to renew their Annual Progress Report. The information collection will otherwise be used in the same manner as the existing report. The Corporation also seeks to continue using the current report until the revised application is approved by OMB. The current report due to expire on July 31, 2011.

Type of Review: Renewal.

Agency: Corporation for National and Community Service.

Title: Annual Progress Report.

OMB Number: 3045-0101.

Agency Number: None.

Affected Public: Current/prospective recipients of AmeriCorps State and National funding.

Total Respondents: 154.

Frequency: Annually.

Average Time Per Response: Averages 8 hours.

Estimated Total Burden Hours: 1232 hours.

Total Burden Cost (capital/startup): None.

Total Burden Cost (operating/maintenance): None.

Comments submitted in response to this notice will be summarized and/or included in the request for Office of Management and Budget approval of the information collection request; they will also become a matter of public record.

Dated: May 16, 2011.
Lois Nembhard,
Deputy Director, AmeriCorps State and National.

[FR Doc. 2011-12489 Filed 5-19-11; 8:45 am]

BILLING CODE 6050-$$-P